DEPARTMENT OF DEFENSE

Office of the Secretary

The Joint Staff; National Defense University (NDU), Board of Visitors (BOV) Meeting

AGENCY: Department of Defense.

ACTION: Notice of meeting.

SUMMARY: The President, National Defense University has scheduled a meeting of the Board of Visitors.

DATES: The meeting will be held on November 14th and 15th 2002, from 18:00 to 21:00 on the 14th and continuing on the 15th from 08:30 to 17:00.

ADDRESSES: The meeting will be held in Room 115, Marshall Hall, Building 62, National Defense University, 300 5th Avenue, Fort McNair, Washington, DC 20319-5066.

FOR FURTHER INFORMATION CONTACT: NDU Assistant Vice President for Administration and Deputy Chief of Staff, National Defense University, Fort Lesley J. McNair, Washington, DC 20319-6200. To reserve space, interested persons should contact Mr. Michael Mann, @ (202) 685-3903 and/or e-mail: mannm@ndu.edu.

SUPPLEMENTARY INFORMATION: The agenda will include past, present, and future Joint Professional Military Education and National Security/Home Land Security Policy issues that drive mission requirements for the National Defense University and its many Components. The meeting is open to the public with limited space available for observers to be allocated on a first come, first served basis.

POC: Michael Mann, BOV Executive Secretary, @ mannm@ndu.edu and/or (202) 685-3903.

Dated: October 31, 2002.
L.M. Bynum,
Alternate OSD Federal Register Liaison Officer, Department of Defense.

[FR Doc. 02-28413 Filed 11-7-02; 8:45 am]

BILLING CODE 5001-08-M